DEPARTMENT OF HEALTH AND HUMAN SERVICES

Centers for Disease Control and Prevention

[60 Day-03-66]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Environmental Health Specialists Network (EHS-NET) Data Collection Methodology and Instrument—New—National Centers for Environmental Health (NCEH), Centers for Disease Control and Prevention (CDC).

Background

The Centers for Disease Control and Prevention (CDC) is requesting OMB approval for a data collection system that will assist public health officials to better identify and assess environmental factors contributing to foodborne outbreaks and the prevention efforts needed to reduce or ameliorate these events. This data collection, the Environmental Health Specialists Network (EHS-Net) Information System, is a standardized survey instrument developed by CDC in collaboration with the U.S. Food and Drug Administration (FDA) and the EHS-Net participating states, California, Colorado, Connecticut, Georgia, Minnesota, New York, Oregon, and Tennessee. The instrument is for use in non-regulatory environmental evaluations.

The Environmental Health Specialist Network Information System has been pilot tested in the EHS-Net states. The eight states in the pilot testing phase used the EHS-Net survey instrument to collect environmental information from two groups of restaurants: those that reported foodborne outbreaks and those that had not. The survey instrument collected information about the restaurant's food safety policies and procedures, and includes direct observations of food preparation and handling practices, and food worker behaviors.

CDC will evaluate the data collected in these eight pilot states to further refine and improve the EHS-Net data collection instrument and methodology. Once this evaluation is completed, the EHS-Net data collection instrument and methodology will be made available to all public health officials in the United States who wish to use the system to identify and assess environmental factors in food establishments that contribute to foodborne illness and to evaluate the effectiveness of existing prevention measures including foodhandling practices, policies, and other control measures. There is no cost to respondents.

Respondents | No. of respondents | No. of responses per respondent | Average burden per response (in hrs.) | Total burden (in hrs.)
One Public Health Official Per State | 50 | 52 | 6 | 15,600
Total |  |  |  | 15,600

Dated: May 2, 2003.
Thomas Bartenfeld,
Acting Associate Director for Policy, Planning and Evaluation, Centers for Disease Control and Prevention.

[FR Doc. 03-11418 Filed 5-7-03; 8:45 am]

BILLING CODE 4163-18-P